SOCIAL SECURITY ADMINISTRATION

Statement of Organization, Functions and Delegations of Authority

This statement amends Part TB of the Statement of the Organization, Functions and Delegations of Authority which covers the Social Security Administration (SSA). It realigns work within the Office of the Deputy Commissioner, Legislation and Congressional Affairs (ODCLCA). The Disability Insurance Program Staff (TBB), the Supplemental Security Income (SSI) Program Staff (TBE), the Old Age and Survivors Insurance (OASI) Benefits Staff (TBG), and the Program Administration and Financing Staff (TBH) are all abolished. The functions of these staffs are transferred to a new Office of Legislative Development. Also, legislative liaison activities in the Immediate Office of the Deputy Commissioner are consolidated in a new Office of Legislative Relations. In addition, the legislative reference function is transferred from the immediate Office of the Deputy Commissioner to the Congressional Relations Staff, which is being retitled the Legislative Research and Congressional Constituent Relations Staff (TBC). Because this is a major realignment, the entire chapter is being reissued.

TB.00 Mission

TB.10 Organization

TB.20 Functions

Section TB.00 The Office of the Deputy Commissioner, Legislation and Congressional Affairs—(Mission): The Office of the Deputy Commissioner, Legislation and Congressional Affairs develops and conducts the legislative program of SSA, serves as the focal point for all legislative activity in SSA, analyzes legislative and regulatory initiatives and develops specific positions and amendments. The Office evaluates the effectiveness of programs administered by SSA in terms of legislative needs, and analyzes and develops recommendations on related income maintenance, social service and rehabilitation program proposals, particularly those which may involve coordination with SSA-administered programs, and on other methods of providing economic security. It provides advisory service to SSA officials on legislation of interest to SSA pending in Congress. It also provides legislative drafting to officials within the Executive Branch, congressional committees, individual Members of Congress and private organizations interested in Social Security legislation. It establishes and maintains a working relationship with all Members of Congress. It serves as SSA's information gathering and dissemination staff on congressional activities affecting SSA programs and handles certain claims and administrative matters that are particularly urgent or sensitive to Members of Congress.

Section TB.10 The Office of the Deputy Commissioner, Legislation and Congressional Affairs—(Organization): The Office of the Deputy Commissioner, Legislation and Congressional Affairs, under the leadership of the Deputy Commissioner for Legislation and Congressional Affairs, includes:

A. The Deputy Commissioner for Legislation and Congressional Affairs (TB).

B. The Assistant Deputy Commissioner for Legislation and Congressional Affairs (TB).

C. The Immediate Office of the Deputy Commissioner for Legislation and Congressional Affairs (TBA).

D. The Office of Legislative Development (TBJ).

E. The Office of Legislative Relations (TBH).

F. The Legislative Research and Congressional Constituent Relations Staff (TBC).

Section TB.20 The Office of the Deputy Commissioner, Legislation and Congressional Affairs—(Functions)

A. The Deputy Commissioner for Legislation and Congressional Affairs (TB) is directly responsible to the Commissioner for carrying out DCLCA's mission and providing general supervision to the major components of DCLCA.

B. The Assistant Deputy Commissioner for Legislation and Congressional Affairs (TB) assists the Deputy Commissioner in carrying out his/her responsibilities and performs other duties as the Deputy Commissioner may prescribe.

C. The Immediate Office of the Deputy Commissioner for Legislation and Congressional Affairs (TBA) provides the Deputy Commissioner and Assistant Deputy Commissioner with staff assistance on the full range of their responsibilities.

D. The Office of Legislative Development (TBJ) develops and evaluates legislative proposals for changes in the Social Security program. Reviews regulations dealing with the Social Security program including inter-program relationships to assure cross-program consistency with policy requirements and decisions. Provides technical and advisory services to other agencies within the Executive Branch, congressional committees, State officials and private organizations having an interest in Social Security programs or emerging legislative issues. Provides analytical support on broad programmatic issues. Identifies and analyzes far-reaching economic, political and societal issues that impact/influence the development and modification of Social Security program policies and procedures. Recommends methods for coordinating the protection afforded under Social Security with that afforded under other public and private benefit programs.

E. The Office of Legislative Relations (TBH). Serves as consultant to the Deputy Commissioner, Office of Legislation and Congressional Affairs with regard to establishing and maintaining effective congressional relationships. Focuses on legislative relationships for planning and coordination among Executive Branch offices/Agencies and Hill components. Establishes and maintains liaison functions with the White House, other Executive Branch Agencies, and with congressional committees and Members' offices. Networks with counterparts in other agencies to foster a coordinative approach to legislative strategy. Directs the activities of the Washington, D.C., DCLCA staff in carrying out activities related to liaison with the Congress and coordination with other Agencies.

F. The Legislative Research and Congressional Constituent Relations Staff (TBC).

1. Develops and preserves working relationships with Members of Congress, on behalf of the Agency, covering the full range of program and administrative constituent matters. Conducts dialogue on a routine basis, and participates in negotiations on highly sensitive constituent matters with Members.

2. Tracks legislative bills, highlights items of interest from the Congressional Record and other publications for DCLCA and SSA's Executive Staff and provides support for other DCLCA and SSA components at congressional hearings. Assists individual Members of Congress and their staffs and congressional committee staffs by responding to requests for information on pending and proposed Social Security legislation, related legislative proposals and the legislative history of the Social Security program. Reviews legislative proposals for consistency with existing program goals, philosophy and program requirements.

Dated: February 2, 2000.
Kenneth S. Apfel,
Commissioner of Social Security.

[FR Doc. 00-4755 Filed 2-28-00; 8:45 am]

BILLING CODE 4191-02-P